DEPARTMENT OF TRANSPORTATION

Federal Highway Administration

Rescinding the Notice of Intent To Prepare Environmental Impact Statement (EIS): South Kohala, Hawaii

AGENCY: Federal Highway Administration (FHWA), DOT.

ACTION: Notice to rescind notice of intent (NOI) to prepare an environmental impact statement (EIS).

SUMMARY: The FHWA is issuing this notice to advise the public that it is rescinding its NOI and will not be preparing an EIS to evaluate alternatives that would support the increase in traffic demands and special needs, including the movement of military and commercial truck traffic between Waimea Town and Kawaihae Harbor in South Kohala in the County of Hawaii. An NOI to prepare an EIS was published in the Federal Register on November 29, 2002.

FOR FURTHER INFORMATION CONTACT: Ralph Rizzo, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS with an NOI published in the Federal Register on November 29, 2002, at 67 FR 71231, to prepare an EIS.

As part of the EIS, a new highway approximately 14 miles in length, transportation system management, and the no build alternative would have been studied. Improvements were considered necessary to accommodate the anticipated traffic demands, and special needs including heavy truck traffic and military vehicles. The Project would impact a sizable number of historic and archaeological resources due to the sheer number of archaeological sites identified during the survey. Avoidance of all of these sites would be difficult and may not be feasible. Additionally, the cost for the estimated right-of-way and construction would likely be substantial because of limited funding availability. Therefore, HDOT has decided not to pursue the project and the preparation of the EIS is being terminated.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508.

Issued on: May 29, 2020.
Ralph Rizzo,
Division Administrator, Honolulu, HI.

[FR Doc. 2020-12118 Filed 6-3-20; 8:45 am]

BILLING CODE 4910-RY-P